DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before November 13, 2017.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on September 29, 2017.
Donald Burger,
Chief, General Approvals and Permits Branch.

Application No. | Docket No. | Applicant | Regulation(s) affected | Nature of the special permits thereof
SPECIAL PERMITS DATA
7657-M |  | WELKER, INC | 173.201, 173.202, 173.203, 173.301(f)(2), 173.302a(a)(1), 173.304(a), 177.840(a)(1) | To modify the special permit to more closely align it with SP 11054.
11054-M |  | WELKER, INC | 173.201, 173.202, 173.203, 173.301(f)(2), 173.302a(a)(1), 173.304(a), 177.840(a)(1) | To modify the special permit to bring it in line with SP 7657.
11691-M |  | THE COCA-COLA COMPANY | 172.301(c), 176.83(d), 176.800(a), 176.800(b) | To modify the special permit to authorize additional Class 3, 8 and 9 hazardous materials.
14523-M |  | PACIFIC BIO-MATERIAL MANAGEMENT, INC | 173.199(a), 178.603, 178.609(d) | To modify the special permit to authorize an additional packaging for transporting vials of hazmat.
15136-M |  | LUXFER INC | 173.302a(a)(1) | To modify the special permit to authorize pneumatic proof pressure testing for periodic requalifications.
15238-M |  | REEDER FLYING SERVICE, INC | 172.101(j), 172.200, 172.204(c)(3), 172.301(c), 173.27(b)(2), 175.30(a)(1), 175.75 | To modify the special permit to add and remove items from the authorized hazmat to be transported.
15991-M |  | DOCKWEILER AG | 178.50(d)(1), 178.50(d)(2) | To modify the special permit by updating the drawings and specifications of the authorized non-DOT specification cylinders conforming to DOT Specification 4B.
16295-M |  | EVONIK CORPORATION | 172.519(c) | To modify the special permit to remove the requirement of transporting in closed, sealed transport vehicles or freight containers.
16452-M |  | THE PROCTER & GAMBLE COMPANY | 49 CFR Subchapter C | To modify the permit to clarify the requirement for strong outer packaging to meet the requirements normally applied to packages of “limited quantities” moving by air.
20235-N |  | UNION PACIFIC RAILROAD COMPANY INC | 174.83(c), 174.83(d), 174.83(e) | To authorize the transportation in commerce of flatcars carrying bulk packagings containing certain Division 4.3 materials without restricting its ability to couple with another railcar while moving under its own momentum.
20397-N |  | DEEP SPACE INDUSTRIES INC | 173.185(a)(1)(i) | To authorize the transportation in commerce of low production batteries contained in equipment by motor vehicle.
20402-N |  | ORONO SPECTRAL SOLUTIONS INC | 173.315(l) | To authorize an alternative test method for the determination of the presence of the minimum water content in anhydrous ammonia.
20419-M |  | INSITU, INC | 173.185(a) | To clarify state of charge allowances depending on transport mode and to authorize carriage by the grantee.
20432-N |  | PROCYON-ALPHA SQUARED, INC | 173.185(f) | To authorize the manufacture, mark, sale and use of specially designed packagings for the transportation in commerce of damaged, defective or recalled lithium ion cells, batteries and equipment containing these cells and batteries.
20440-N |  | NELLIS ENGINEERING, INC | 173.185(a) | To authorize the transportation in commerce of lithium ion batteries and lithium ion batteries contained in equipment by cargo-only aircraft.
20450-N |  | PORSCHE CARS NORTH AMERICA, INC |  | To authorize the transportation in commerce of lithium ion batteries which exceed the allowable 35 kg weight limit by cargo aircraft.
20456-N |  | CALLERY, LLC | 173.13(c)(1)(ii) | To authorize the transportation in commerce of Division 4.3 materials in packages not required to labeled.
20464-N |  | CCL CONTAINER CORPORATION | 173.306(a)(3)(ii) | To authorize the manufacture, marking, sale and use of certain non-DOT specification inside metal containers.
20473-N |  | ADVANCED CHEMICAL TRANSPORT, INC | 173.242(c), 173.242(c)(1), 173.242(c)(2), 178.801(i) | To authorize the transportation of a non-DOT specification bulk metal container with inner non-DOT specification metal trap/canisters containing Division 4.2 materials for disposal.
20475-N |  | MERCK & CO., INC | 173.306(a)(3)(ii) | To authorize the manufacture, mark, sale, and use of non-specification metal receptacles meeting the requirements of 2Q receptacles except it exceeds the pressure authorized.
20478-N |  | THERMO MF PHYSICS LLC | 173.304(a) | To authorize the transportation in commerce of sulfur hexafluoride in non-specification packaging.
20487-N |  | GIVAUDAN FRAGRANCES CORPORATION | 173.120(c) | Applicant intended to apply for party status to DOT-SP 12065.
20505-N |  | NYNJ LINK DEVELOPER LLC | 107.601(a), 107.601(c) | To authorize the transportation in commerce of certain hazardous materials without registering in accordance with part 107 subpart G.
20508-N |  | PATRIOT CHEMICALS & SERVICES, LLC | 180.407 | Applicant intended to renew party status to DOT-SP 8627.
20510-N |  | SPECTRA TECHNOLOGIES LLC | 172.101, 172.204(c)(3), 172.204(c)(3), 173.27(b)(2), 173.27(b)(3) | To authorize the one-time, one-way transportation in commerce of certain explosives, by cargo aircraft only, which are otherwise forbidden by the regulations.
20516-N |  | GENERAL DEFENSE CORP | 172.101(j), 172.204(c)(3) | To authorize the one-time, one way transportation of an explosive by cargo aircraft, which is otherwise forbidden by the regulations.
20520-N |  | AVIAKOMPANIYA UKRAINA-AEROALYANS, PrAT | 172.101(j), 172.204(c)(3), 173.27(b)(2), 175.30(a)(1) | To authorize the transportation in commerce of certain hazardous materials forbidden aboard cargo-only aircraft.
20521-N |  | NYNJ LINK DEVELOPER LLC | 107.601 | To authorize the transportation in commerce of hazardous materials without registering in accordance with Subpart F of Part 107.
20535-N |  | PHARMACEUTICAL DELIVERY, INC | 172.203(a), 177.842(a), 177.842(b) | Applicant intended to apply for party status to DOT-SP 8308.

[FR Doc. 2017-21847 Filed 10-10-17; 8:45 am]

BILLING CODE 4901-60-P